FEDERAL COMMUNICATIONS COMMISSION

47 CFR Part 52

Toll Free Service Access Codes

CFR Correction

In Title 47 of the Code of Federal Regulations, parts 40 to 69, revised as of October 1, 2000, part 52 is corrected by adding § 52.111, to read as follows:

§ 52.111 Toll free number assignment.

Toll free numbers shall be made available on a first-come, first-served basis unless otherwise directed by the Commission.

[FR Doc. 01-55527 Filed 9-12-01; 8:45 am]

BILLING CODE 1505-01-D